FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 011929-003.

Title: Hapag-Lloyd/Zim Mediterranean Slot Exchange Agreement.

Parties: Hapag-Lloyd AG and Zim Integrated Shipping Services, Ltd.

Filing Party: Wayne Rohde, Esq.; Cozen O'Connor; 627 I Street, NW.; Suite 1100; Washington, DC 20006.

Synopsis: The amendment would convert the Agreement from slot exchange to a one-way space charter, delete the U.S. Gulf Coast from the scope of the Agreement, revise the arbitration provisions, and rename the Agreement as the Hapag-Lloyd/Zim Mediterranean Space Charter Agreement.

Agreement No.: 012070-002.

Title: CSCL/ELJSA Vessel Sharing Agreement-Asia and Mexico, US East Coast Service.

Parties: China Shipping Container Lines Co., Ltd.; China Shipping Container Lines (Hong Kong) Co., Ltd.; and Evergreen Lines Joint Service Agreement.

Filing Party: Tara L. Leiter, Esq.; Blank Rome, LLP; Watergate; 600 New Hampshire Avenue NW.; Washington, DC 20037.

Synopsis: The amendment adds United Arab Shipping Company S.A.G. as a party to the agreement.

Agreement No.: 012114-001.

Title: POS/TSL Vessel Sharing Agreement.

Parties: Hainan P O Shipping Co., Ltd., and T.S. Lines Ltd.

Filing Party: Neal A. Mayer, Esq.; Hoppel, Mayer, & Coleman; 1050 Connecticut Avenue, NW., 10th Floor; Washington, DC 20036.

Synopsis: The amendment adds South Korea to the geographic scope and increases the number of services under the agreement.

Agreement No.: 012121.

Title: Coscon/Hanjin/WHL/PIL Vessel Sharing Agreement.

Parties: COSCO Container Lines Company Ltd.; Hanjin Shipping Co., Ltd.; Pacific International Lines (PTE) Ltd.; and Wan Hai Lines Ltd.

Filing Party: Robert B. Yoshitomi, Esq.; Nixon Peabody LLP; Gas Company Tower; 555 West Fifth Street, 46th Floor; Los Angeles, CA 90013.

Synopsis: The agreement authorizes the parties to exchange slots and coordinate sailings in the trades between Japan, China, and the Pacific coast of the United States.

By Order of the Federal Maritime Commission.
Dated: March 25, 2011.
Karen V. Gregory,
Secretary.

[FR Doc. 2011-7486 Filed 3-29-11; 8:45 am]

BILLING CODE 6730-01-P